DEPARTMENT OF HEALTH AND HUMAN SERVICES

Centers for Disease Control and Prevention

[30 Day-07-06BG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Longitudinal follow-up of Youth with Attention-Deficit/Hyperactivity Disorder identified in Community Settings: Examining Health Status, Correlates, and Effects associated with treatment for Attention-Deficit/Hyperactivity Disorder—New—National Center on Birth Defects and Developmental Disabilities (NCBDDD), Centers for Disease Control and Prevention (CDC).

Background and Brief Description

This project will collect data from proxy respondents and youths with and without ADHD. This program addresses the Healthy People 2010 focus area of Mental Health and Mental Disorders, and describes the prevalence, incidence, long-term outcomes, treatment(s), select co-morbid conditions, secondary conditions, and health risk behavior of youth with ADHD relative to youth without ADHD.

In FY 2002-FY 2005 two cooperative agreements (transitioned to extramural research) were awarded to conduct community-based epidemiological research on ADHD among elementary-aged youth, known as the Project to Learn about ADHD in Youth (PLAY Study Collaborative). These studies informed community-based prevalence, rates of comorbidity, and rates of health risk behaviors among elementary-age youth with and without ADHD as determined by a rigorous case definition developed by the principal investigators and in collaboration with CDC scientists.

The purpose of this program is to study the long-term outcomes and health status for children with Attention-Deficit/Hyperactivity Disorder (ADHD) identified and treated in community settings through a systematic follow-up of the subjects who participated in the PLAY Study Collaborative. There is a considerable interest in the long-term outcomes of youth with ADHD as well as the effects of treatment, lack of treatment, and quality of care in average U.S. communities, emphasizing the public health importance of longitudinal research in this area.

There is no cost to respondents other than their time. The total annual burden hours are 3994.

Estimated Annualized Burden Hours
Type of respondent | Survey instruments | No. of respondents | No. of responses/ respondent | Avg. burden/ response in hours
Parent | ADHD Communication and Knowledge (Attachment B3) | 961 | 1 | 10/60
Parent | ADHD Treatment, Cost, and Client Satisfaction Questionnaire (Attachment B4a) | 961 | 1 | 10/60
Parent | ADHD Treatment Quarterly Update (Attachment B4b) | 961 | 3 | 3/60
Parent | Brief Impairment Scale (Attachment B5) | 961 | 1 | 4/60
Parent | Critical School Events (elementary, middle) (Attachment B6) | 823 | 2 | 6/60
Parent | Critical School Events (high school) (Attachment B7) | 138 | 2 | 6/60
Parent | Demographic Survey (Attachment B8) | 961 | 1 | 5/60
Parent | Health Risk Behavior Survey (Elementary) 7-10 years (Attachment B9) | 163 | 1 | 18/60
Parent | Health Risk Behavior Survey (Middle School) 11-13 years (Attachment B10) | 412 | 1 | 22/60
Parent | Health Risk Behavior Survey (High School) 14+ years (Attachment B11) | 386 | 1 | 28/60
Parent | Parent-Child Relationship Inventory (Attachment B12) | 961 | 1 | 15/60
Parent | Parents' Questionnaire (Mental Health) (Attachment B13) | 892 | 1 | 5/60
Parent | Pediatric Quality of Life Young Child (Attachment B14) | 5 | 2 | 4/60
Parent | Pediatric Quality of Life Child (Attachment B15) | 421 | 2 | 4/60
Parent | Pediatric Quality of Life Teen (Attachment B16) | 536 | 2 | 4/60
Parent | Quarterly Update Events and Demographics (Attachment B17) | 961 | 3 | 1/60
Parent | Social Isolation/Support (Attachment B18) | 892 | 1 | 2/60
Parent | Strengths and Difficulties Questionnaire 4-10 (Attachment B19) | 163 | 2 | 3/60
Parent | Strengths and Difficulties Questionnaire 11-17 (Attachment B20) | 798 | 2 | 3/60
Parent | Vanderbilt Parent Rating Scale (Attachment B21) | 961 | 2 | 10/60
Child | Brief Sensation Seeking Scale (11+ years only) (Attachment B22) | 798 | 1 | 1/60
Child | Health Risk Behavior Survey (Elementary) 7-10 years (Attachment B23) | 163 | 1 | 25/60
Child | Health Risk Behavior Survey (Middle School) 11-13 years (Attachment B24) | 412 | 1 | 30/60
Child | Health Risk Behavior Survey (High School) 14+ years (Attachment B25) | 386 | 1 | 35/60
Child | MARSH—Self Description Questionnaire v I, 7-12 years (Attachment B26) | 426 | 1 | 15/60
Child | MARSH—Self Description Questionnaire v II, 13-15 years (Attachment B27) | 398 | 1 | 20/60
Child | MARSH—Self Description Questionnaire v III 16+ years (Attachment B28) | 138 | 1 | 20/60
Child | Pediatric Quality of Life Young Child (Attachment B29) | 5 | 1 | 5/60
Child | Pediatric Quality of Life Child (Attachment B30) | 421 | 1 | 5/60
Child | Pediatric Quality of Life Teen (Attachment B31) | 536 | 1 | 5/60
Child | People In My Life (Attachment B32) | 426 | 1 | 15/60
Child | People In My Life/Inventory of Parent and Peer Attachment (Attachment B33) | 536 | 1 | 22/60
Child | Youth Demographic Survey,16+ years only (Attachment B34) | 138 | 1 | 1/60
Teacher | Teacher Survey (Attachment B35) | 4154 | 1 | 10/60
Total |  | 961 children 892 parents 4154 teachers |  |

Dated: March 30, 2007.
Joan F. Karr,
Acting Reports Clearance Officer, Centers for Disease Control and Prevention.

[FR Doc. E7-6339 Filed 4-4-07; 8:45 am]

BILLING CODE 4163-18-P